DEPARTMENT OF AGRICULTURE

Forest Service

Procedures for Third Party Facilitated Land Exchanges

AGENCY: Forest Service, USDA.

ACTION: Notice of Issuance of Agency Interim Directive.

SUMMARY: The Forest Service is issuing an interim directive to Forest Service Handbook (FSH) 5409.13—Land Acquisition Handbook to provide additional guidance to its employees for using third party facilitators in a real estate action.

DATES: This interim directive is effective December 26, 2006.

ADDRESSES: This interim directive (id_5409.13-2006-1) is available electronically from the Forest Service via the World Wide Web/Internet at http://www.fs.fed.us/im/directives. Single paper copies of the interim directive are also available by contacting Maryanne Kurtinaitis, Lands Staff (Mail Stop 1124), Forest Service, 1400 Independence Avenue, SW., Washington, DC 20250-1124 (telephone 202-205-1264).

FOR FURTHER INFORMATION CONTACT: Maryanne Kurtinaitis, Lands Staff, (202) 205-1264.

SUPPLEMENTARY INFORMATION: The interim directive to Forest Service Handbook (FSH) 5409.13, section 32.2 provides additional guidance when a third party facilitator is used in a real estate action. Several problems have been identified with facilitated land exchanges, including third party facilitators not being legally authorized in writing by non-Federal landowners to represent their interests, and non-Federal landowners not being adequately informed and involved by the third party facilitator and the Forest Service.

The effect of these situations may be that while the Forest Service incurs appraisal, environmental analysis, and other costs associated with a proposed exchange, the facilitator may not have bound the non-Federal landowner or lands to enable completion of the exchange upon an affirmative decision.

Dated: December 19, 2006.
Dale N. Bosworth,
Chief, Forest Service.

[FR Doc. E6-22063 Filed 12-22-06; 8:45 am]

BILLING CODE 3410-11-P